DEPARTMENT OF ENERGY

Federal Energy Regulatory Commission

Combined Notice of Filings #1

Take notice that the Commission received the following electric rate filings:

Docket Numbers: ER16-2703-002.

Applicants: Deerfield Wind Energy, LLC.

Description: Notice of Non-Material Change In Status of Deerfield Wind Energy, LLC.

Filed Date: 04/13/2017.

Accession Number: 20170413-5384.

Comment Date: 5:00 p.m. ET 5/4/17.

Docket Numbers: ER17-1320-001.

Applicants: Odyssey Solar, LLC.

Description: Tariff Amendment: Amendment to 3 to be effective 12/13/9998.

Filed Date: 4/14/17.

Accession Number: 20170414-5132.

Comments Due: 5 p.m. ET 5/5/17.

Docket Numbers: ER17-1420-000.

Applicants: PJM Interconnection, L.L.C.

Description: PJM Interconnection, L.L.C. submits tariff filing per 35.13(a)(2)(iii: Revisions to OATT Sch. 12—Appdx A re: Artifical Island Approved April 2017 to be effective 11/30/2016.

Filed Date: 04/13/2017.

Accession Number: 20170413-5302.

Comment Date: 5:00 p.m. ET 5/4/17.

Docket Numbers: ER17-1421-000.

Applicants: Public Service Company of Colorado.

Description: § 205(d) Rate Filing: OATT PSCo-NREL-Non-Cnfrm SGIA-385-0.0.0 to be effective 6/14/2017.

Filed Date: 4/14/17.

Accession Number: 20170414-5094.

Comments Due: 5 p.m. ET 5/5/17.

Docket Numbers: ER17-1422-000.

Applicants: Midcontinent Independent System Operator, Inc.

Description: § 205(d) Rate Filing: 2017-04-14_SA 2786 ITC Midwest-Interstate Power & Light GIA (J233) to be effective 4/3/2017.

Filed Date: 4/14/17.

Accession Number: 20170414-5102.

Comments Due: 5 p.m. ET 5/5/17.

Docket Numbers: ER17-1423-000.

Applicants: Midcontinent Independent System Operator, Inc.

Description: § 205(d) Rate Filing: 2017-04-14_SA 3010 ITC-Freeborn Wind GIA (J407) to be effective 4/3/2017.

Filed Date: 4/14/17.

Accession Number: 20170414-5109.

Comments Due: 5 p.m. ET 5/5/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 14, 2017.
Kimberly D. Bose,
Secretary.

[FR Doc. 2017-07974 Filed 4-19-17; 8:45 am]

BILLING CODE 6717-01-P